DEPARTMENT OF HEALTH AND HUMAN SERVICES

Substance Abuse and Mental Health Services Administration

Notice of Meeting

Pursuant to Public Law 92-463, notice is hereby given that the Substance Abuse and Mental Health Services Administration's (SAMHSA) Center for Substance Abuse Treatment (CSAT) National Advisory Council will meet April 2, 2014, 9:30 a.m.-5:00 p.m.

The meeting is open to the public and will include a discussion of the Center's current administrative, legislative, and program developments. Public comments are welcome. To attend on-site, or request special accommodations for persons with disabilities, please register at SAMHSA Committees' Web site, http://nac.samhsa.gov/Registration/meetingsRegistration.aspx or contact the Council's Designated Federal Officer, Ms. Cynthia Graham, (see contact information below).

Individuals interested in making oral comments or obtaining the meeting number and passcode are encouraged to notify Ms.Graham, on or before March 24. Substantive program information, a summary of the meeting and a roster of Council members may be obtained 30 days following the meeting by accessing the SAMHSA Committee Web site at http://nac.samhsa.gov/CSATcouncil/index.aspx or contacting Ms. Graham.

Committee Name: Substance Abuse and Mental Health Services Administration, Center for Substance Abuse Treatment National Advisory Council.

Date/Time/Type: April 2, 2014, 9:30 a.m.-5:00 p.m. (OPEN)

Place: SAMHSA Building, Sugarloaf Conference Room, 1 Choke Cherry, Rockville, MD 20857.

Contact: Cynthia Graham, M.S., Designated Federal Official, SAMHSA/CSAT National Advisory Council, 1 Choke Cherry Road, Room 5-1035, Rockville, MD 20857, Telephone: (240) 276-1692, FAX: (240) 276-1690, Email: cynthia.graham@samhsa.hhs.gov.

Cathy J. Friedman,
Public Health Analyst, SAMHSA.

[FR Doc. 2014-05004 Filed 3-6-14; 8:45 am]

BILLING CODE 4162-20-P